DEPARTMENT OF TRANSPORTATION

Federal Aviation Administration

14 CFR Part 39

[Docket No. 2000-SW-46-AD; Amendment 39-12674; AD 2002-05-06]

RIN 2120-AA64

Airworthiness Directives; Sikorsky Aircraft Corporation Model S-76A Helicopters; Correction

AGENCY: Federal Aviation Administration, DOT.

ACTION: Final rule; correction.

SUMMARY: This document corrects an effective date in Airworthiness Directive (AD) 2002-05-06. That AD applies to Sikorsky Aircraft Corporation Model S-76A helicopters and was published in the Federal Register on March 18, 2002 (67 FR 11893). The effective date as stated in paragraph (g) of the AD is incorrect, and this document corrects that effective date. In all other respects, the original document remains the same.

DATES: Effective April 22, 2002.

FOR FURTHER INFORMATION CONTACT: Richard Noll, Aviation Safety Engineer, Boston Aircraft Certification Office, 12 New England Executive Park, Burlington, MA 01803, telephone (781) 238-7160, fax (781) 238-7199.

SUPPLEMENTARY INFORMATION: The FAA issued a final rule AD 2002-05-06, on March 5, 2002 (67 FR 11893, March 18, 2002). The following correction is needed:

The effective date given in paragraph (g) of the AD was intended to be the same effective date of April 22, 2002 as stated in the “Effective Date” line. Therefore, the date in paragraph (g) needs correcting.

Since no other part of the regulatory information has been revised, the final rule is not being republished.

Correction of the Publication

Accordingly, the publication on March 18, 2002 of the final rule (AD 2002-05-06) which was the subject of FR Doc. 02-6330 is corrected as follows:

§ 39.13 [Corrected]

On page 11895, in the second column, in AD 2002-05-06, paragraph (g), correct “April 2, 2002” to read “April 22, 2002”.

Issued in Fort Worth, Texas, on April 29, 2002.
David A. Downey,
Manager, Rotorcraft Directorate, Aircraft Certification Service.

[FR Doc. 02-11806 Filed 5-10-02; 8:45 am]

BILLING CODE 4910-13-P